SOCIAL SECURITY ADMINISTRATION

[Docket No: SSA-2019-0049]

Agency Information Collection Activities: Comment Request

The Social Security Administration (SSA) publishes a list of information collection packages requiring clearance by the Office of Management and Budget (OMB) in compliance with Public Law 104-13, the Paperwork Reduction Act of 1995, effective October 1, 1995. This notice includes revisions, extensions, and corrections of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2019-0049].

SSA submitted the information collections below to OMB for clearance. Your comments regarding these information collections would be most useful if OMB and SSA receive them 30 days from the date of this publication. To be sure we consider your comments, we must receive them no later than December 20, 2019. Individuals can obtain copies of the OMB clearance packages by writing to OR.Reports.Clearance@ssa.gov.

1. Ohio Direct Referral Demonstration (ODRD)—0960-NEW

Background

SSA is requesting clearance to collect data necessary to conduct a random assignment evaluation of volunteers in Ohio who enroll in Ohio Direct Referral Demonstration (ODRD). SSA and Opportunities for Ohioan's with Disabilities (OOD) will conduct the ODRD to test the effectiveness of providing direct referrals to vocational rehabilitation services for 18 and 19 year-olds who are, or may become, Supplemental Security Income (SSI) or Social Security Disability Insurance (SSDI) recipients. The participants in the demonstration will be individuals ages 18 and 19 at the time of enrollment, who are either (1) applying for SSDI or SSI or (2) undergoing an age-18 redetermination of SSI eligibility. The ODRD is a joint effort by SSA and OOD's Division of Disability Determination (DDD), and Ohio's Bureau of Vocational Rehabilitation (BVR). ODRD builds off other work by SSA exploring ways to improve the adult employment outcomes and financial independence for SSI recipients and SSI and SSDI applicants who are in the process of transitioning to adulthood. ODRD tests the effects of a direct referral to vocational rehabilitation services for individuals aged 18 or 19 who are in the process of applying for, or undergoing an evaluation to, retain SSDI benefits or SSI payments. We will use the data collected to answer the following questions:

• What effect did the intervention have on receipt of Ohio's BVR services?

• What effect did the intervention have on employment outcomes, such as job placement and earnings?

• What is the length of time from application to eligibility decision?

• What general vocational rehabilitation outcomes did participants achieve?

• What was the number of closed cases resulting in employment and what was the number of cases closed for other reasons?

Ohio Direct Referral Demonstration (ODRD) Project

Currently, SSA is seeking OMB clearance for the data collection related to enrollment and evaluation of the ODRD. Using SSA claims records, which DDD will access to perform disability determinations for SSA, DDD will attempt to recruit at least 750 participants.

As required under SSA's demonstration authority, DDD will obtain signed, informed consent from individuals who want to participate in the demonstration. Recruitment for the ODRD will require two forms: (1) A new Invitation to Participate and Consent form, and (2) Form SSA-3288, Consent for Release of Information (OMB # 0960-0566). ODD will send the new Invitation to Participate and Consent form to young adult disability recipients, whose claim we sent to the DDD for a continuing disability review, and applicants to see if they are interested in participating in the demonstration. The ODRD Invitation to Participate and Consent forms will meet the informed consent requirements in the Social Security Act and SSA regulations. Specifically, they include language explaining the study as well as potential benefits and harms. SSA will use administrative records systems and BVR data to evaluate the effect of the demonstration.

This is a onetime collection of information, and there are no surveys or additional data collections for the ODRD. This collection is voluntary, and participation in this demonstration will have no impact on respondents' disability determination, benefits, or SSI payments. In addition, participation in the ODRD is revocable at any time. SSA and OOD will remove participants who revoke consent from the demonstration. Upon notification of revocation of participation, SSA and OOD will no longer use, transmit, or request information about the participant who revoked participation in any ODRD data exchange or analysis. Participation in the ODRD will have no effect on DDD's usual process for deciding eligibility for SSI payments or SSDI benefits.

The respondents are individuals aged 18 or 19 who are in the process of applying for, or undergoing an evaluation, to obtain or retain SSDI benefits or SSI payments.

Type of Request: This is a new information collection.

Modality of completion | Number of respondents | Frequency of response | Average burden per response (minutes) | Estimated total annual burden (hours) | Average theoretical hourly cost amount (dollars) * | Total annual opportunity cost (dollars) **
Invitation to Participate and Consent Form—Participant Only (no Representative Payee | 645 | 1 | 6 | 65 | * 8.55 | ** 556
Invitation to Participate and Consent Form—Representative Payee (on behalf of the Participant) | 105 | 1 | 6 | 11 | * 33.50 | ** 369
Totals | 750 |  |  | 76 |  | ** 925
* We based this figure on average U.S. minimum wage (for the participants ages 18-19 who may be working); and the average family income in Ohio (for the Representative Payees).
** This figure does not represent actual costs that SSA is imposing on recipients of Social Security payments to complete this application; rather, these are theoretical opportunity costs for the additional time respondents will spend to complete the application. There is no actual charge to respondents to complete the application.

2. The Strengthening Protections for Social Security Beneficiaries Act of 2018, Section 103(b) Questionnaire—0960-NEW

Background

SSA pays monthly benefits to members of the public who qualify under the Old Age, Survivors, and Disability Insurance (OASDI) program and who are eligible for the Supplemental Security Income (SSI) program. Some claimants who qualify for monthly payments under these programs are unable to manage their benefit payments. When SSA deems program participants incapable of managing, or directing the management of their benefits, SSA sends the payments to a representative payee on the beneficiary's behalf. The representative payee is a person or organization designated by SSA to manage OASDI or SSI payments to meet the individual's basic needs, such as food, clothing, and shelter.

Explanation of Proposed Information Collection Tool

To help ensure that appointed representatives are acting in the best interests of the claimants whom they represent, Section 103(b) of the Strengthening Protections for Social Security Beneficiaries Act (SPSSBA), Public Law 115-165, requires SSA to assess the administrative feasibility of improving information sharing about claimants with representative payees, with State agencies that provide Adult Protective Services. Specifically, Section 103(b) of the SPSSBA asks us to evaluate the following:

• The assessment of an individual's need for a representative payee in connection with benefits to which the individual is entitled under Title II or Title XVI of the Social Security Act; and

• Oversight of the individuals and organizations who are serving as representative payees.

To conduct this evaluation, SSA created the Strengthening Protections for Social Security Beneficiaries Act of 2018, Section 103(b) Questionnaire. The Questionnaire will assess the representative payee data available from each State and determine if the State is willing to share the data it collects. We will email this one-time questionnaire to State agencies or non-governmental entities that provide Adult Protective Services, and let them know that participation in the questionnaire is voluntary. We estimate we will receive one response per respondent, and one respondent per agency. We expect to complete this study by June 30, 2022, so we can submit the required report to the Committee on Ways and Means of the House of Representatives and the Committee on Finance of the Senate in accordance with the SPSSBA. The Respondents are State agencies and non-governmental entities that provide Adult Protective Services to disability claimants under our OASDI and SSI programs.

Type of Request: Request for a new information collection.

Modality of completion | Number of respondents | Frequency of response | Average burden per response (minutes) | Estimated total annual burden (hours) | Average Theoretical hourly cost amount (dollars) * | Total annual opportunity cost (dollars) **
Emailed Questionnaire | 57 | 1 | 12 | 11 | * 12.15 | ** 134
* We based this figure on average State Governmental Information Clerks hourly salary.
** This figure does not represent actual costs that SSA is imposing on recipients of Social Security payments to complete this application; rather, these are theoretical opportunity costs for the additional time respondents will spend to complete the application. There is no actual charge to respondents to complete the application.

Date: November 15, 2019.
Naomi Sipple,
Reports Clearance Officer, Social Security Administration.

[FR Doc. 2019-25120 Filed 11-19-19; 8:45 am]

BILLING CODE 4191-02-P